DEPARTMENT OF ENERGY

International Energy Agency Meeting

AGENCY: Department of Energy.

ACTION: Notice of meeting.

SUMMARY: A meeting of the Industry Advisory Board (IAB) to the International Energy Agency (IEA) will be held on October 20, 2009, at the headquarters of the IEA in Paris, France, in connection with a meeting of the IEA's Standing Group on Emergency Questions (SEQ) on October 20 and 21, 2009.

DATES: October 20-21, 2009.

ADDRESSES: 9, rue de la Fédération, Paris, France.

FOR FURTHER INFORMATION CONTACT: Diana D. Clark, Assistant General for International and National Security Programs, Department of Energy, 1000 Independence Avenue, SW., Washington, DC 20585, 202-586-3417.

SUPPLEMENTARY INFORMATION: In accordance with section 252(c)(1)(A)(i) of the Energy Policy and Conservation Act (42 U.S.C. 6272(c)(1)(A)(i)) (EPCA), the following notice of meeting is provided:

A meeting of the Industry Advisory Board (IAB) of the International Energy Agency (IEA) will be held at the headquarters of the IEA, 9, rue de la Fédération, Paris, France, on October 20, 2009, beginning at 9:30 a.m. The purpose of this notice is to permit attendance by representatives of U.S. company members of the IAB at a meeting of the IEA's Standing Group on Emergency Questions (SEQ), which is scheduled to be held at the same location beginning at 2 p.m. on October 20 and continuing at 9:30 a.m. on October 21. The IAB meeting is in preparation for the SEQ meeting. The agenda for this preparatory meeting is to review the agenda for the SEQ meeting and to discuss the availability and suitability of public emergency oil stocks.

The agenda of the SEQ meeting is under the control of the SEQ. It is expected that the SEQ will adopt the following agenda:

1. Installation of New Vice-Chair

2. Adoption of the Agenda

3. Approval of the Summary Record of the 127th Meeting

4. Status of Compliance with IEP Stockholding Commitments

5. Program of Work

—Report on the Meeting of the Governing Board at the Ministerial Level

—Mid-term Review of the Program of Work 2009-2010

6. Bilateral Cooperation with Thailand

7. The Current Oil Market Situation

8. Emergency Response Review Program

—Schedule of Emergency Response Reviews

—Questionnaire Response of the Czech Republic

—Emergency Response Review of Ireland

—Emergency Response Review of Canada

9. Emergency Response Exercise 5 (ERE5)

—Proposal for the Fifth Emergency Response Training and Oil Supply Disruption Response Simulation Exercise

10. Emergency Policy for Natural Gas

—Update on the Natural Gas Market

—Developments in EU Natural Gas Emergency Policy

11. Emergency Response Measures

—Recommendations on Release of Public Stocks

—Guidelines for Demand Restraint

—Review of IEA Procedures for Collective Actions

—Explanation of the Energy Security Model

12. Policy and Other Developments in Member Countries

—Belgium

—Switzerland

—United States

13. Activities with International Organizations and Non-Member Countries

—Report on the Fossil Fuels Forum, Berlin

—Report on the 1st Oil Forum of the Energy Community, Belgrade

14. Report from the Industry Advisory Board

15. Documents for Information

—Emergency Reserve Situation of IEA Member Countries on July 1, 2009

—Base Period Final Consumption: 3Q 2008-2Q 2009

—Monthly Oil Statistics: July 2009

—Updated Emergency Contacts List

13. Other Business

—Demonstration of New SEQ Web Site Discussion Forum

—Tentative Schedule of Meetings:

—March 23-25, 2010

—June 29-30 and July 1, 2010

—November 16-18, 2010 (ERE5)

As provided in section 252(c)(1)(A)(ii) of the Energy Policy and Conservation Act (42 U.S.C. 6272(c)(1)(A)(ii)), the meetings of the IAB are open to representatives of members of the IAB and their counsel; representatives of members of the IEA's Standing Group on Emergency Questions; representatives of the Departments of Energy, Justice, and State, the Federal Trade Commission, the General Accounting Office, Committees of Congress, the IEA, and the European Commission; and invitees of the IAB, the SEQ, or the IEA.

Issued in Washington, DC, October 6th, 2009.
Diana D. Clark,
Assistant General Counsel for International and National Security Programs.

[FR Doc. E9-24555 Filed 10-9-09; 8:45 am]

BILLING CODE 6450-01-P